DEPARTMENT OF COMMERCE

Patent and Trademark Office

Public Key Infrastructure (PKI) Certificate Action Form

ACTION: Proposed collection; comment request.

SUMMARY: The United States Patent and Trademark Office (USPTO), as part of its continuing effort to reduce paperwork and respondent burden, invites the general public and other Federal agencies to take this opportunity to comment on the continuing information collection, as required by the Paperwork Reduction Act of 1995, Pub. L. 104-13 (44 U.S.C. 3506(c)(2)(A)).

DATES: Written comments must be submitted on or before March 17, 2003.

ADDRESSES: Direct all written comments to Susan K. Brown, Records Officer, Office of Data Architecture and Services, Data Administration Division, USPTO, Suite 310, 2231 Crystal Drive, Washington, DC 20231; by telephone at (703) 308-7400; or by electronic mail at susan.brown@uspto.gov.

FOR FURTHER INFORMATION CONTACT: Requests for additional information should be directed to Fred Whiteside, Information Technology Security Program Office, USPTO, Washington, DC 20231; by telephone at (703) 308-6973; or by electronic mail at frederick.whiteside@uspto.gov.

SUPPLEMENTARY INFORMATION

I. Abstract

The Government Paperwork Elimination Act (GPEA) directs federal agencies to implement electronic commerce systems that will enable the collection and dissemination of information while also ensuring the security and validity of information that is transmitted electronically. In support of the GPEA and its own electronic filing initiatives, the United States Patent and Trademark Office (USPTO) has implemented Public Key Infrastructure (PKI) technology to support electronic commerce between the USPTO and its customers. PKI is a set of hardware, software, policies and procedures used to provide several important security services for the electronic business activities of the USPTO. Using PKI ensures the confidentiality of unpublished patent applications in accordance with 35 U.S.C. 122 and Article 30 of the Patent Cooperation Treaty.

In order to provide the necessary security for its electronic commerce system, the USPTO uses PKI technology to protect the integrity and confidentiality of information submitted electronically to the USPTO. PKI employs public and private encryption keys to authenticate the customer's identity and support secure communication between the customer and the USPTO. Customers may submit a request to the USPTO for a digital certificate, which enables the customer to download and use the Entrust cryptographic software to create the encryption keys necessary for electronic identity verification and secure transactions with the USPTO. This digital certificate is required in order to access secure online systems that are provided by the USPTO, such as obtaining patent application information through the Patent Application Information Retrieval (PAIR) system or filing patent applications and related documents electronically.

This information collection includes the Certificate Action Form (PTO-2042), which is used by the public to request a digital certificate. This form is available for download from the USPTO Web site. This form may also be used by customers to request the revocation of a digital certificate or key recovery in the event of a lost or corrupted certificate. Requests for a certificate must include a notarized signature in order to verify the identity of the applicant. In addition, a Subscriber Agreement is included with the Certificate Action Form to ensure that customers understand their obligations regarding the use of the digital certificates as well as the Entrust software, which authorized users may download from the USPTO Web site. The Certificate Action Form collects personal information that is subject to the Privacy Act of 1974 and is covered by a System of Records Notice that was published in the Federal Register (Vol. 65, No. 80) on April 25, 2000.

II. Method of Collection

By mail or hand delivery to the USPTO.

III. Data

OMB Number: 0651-0045.

Form Number(s): PTO-2042.

Type of Review: Extension of a currently approved collection.

Affected Public: Individuals or households; businesses or other for-profits; not-for-profit institutions; farms; the Federal Government; and State, local or tribal governments.

Estimated Number of Respondents: 8,000 responses per year.

Estimated Time Per Response: The USPTO estimates that it will take the public approximately 30 minutes (0.5 hours) to read the instructions and Subscriber Agreement, gather the necessary information, prepare, and submit the Certificate Action Form (PTO-2042).

Estimated Total Annual Respondent Burden Hours: 4,000 hours per year.

Estimated Total Annual Respondent Cost Burden: $564,000 per year. The USPTO expects that the information in this collection will be prepared by attorneys and paraprofessionals, as well as independent inventors. Using the professional rate of $252 per hour for associate attorneys in private firms and the rate of $30 per hour for paraprofessionals and independent inventors, the USPTO estimates that the average hourly rate for all respondents for this collection will be $141 per hour. Therefore, the respondent cost burden for this collection will be $564,000 per year.

Item | Estimated time for response | Estimated annual responses | Estimated annual burden hours
Certificate Action Form (including Subscriber Agreement) | 30 minutes | 8,000 | 4,000
Total |  | 8,000 | 4,000

Estimated Total Annual Non-hour Respondent Cost Burden: $2,960. There are no capital start-up or maintenance costs or filing fees associated with this information collection. However, customers may incur postage costs when submitting the Certificate Action Form to the USPTO by mail. The USPTO estimates that the first-class postage cost for a mailed Certificate Action Form will be 37 cents, for a total non-hour respondent cost burden in the form of postage costs of $2,960 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: January 8, 2003.
Susan K. Brown,
Records Officer, USPTO, Office of Data Architecture and Services, Data Administration Division.

[FR Doc. 03-773 Filed 1-14-03; 8:45 am]

BILLING CODE 3510-16-P